DEPARTMENT OF EDUCATION

[CFDA No. 84.335]

Child Care Access Means Parents in School Program; Notice Inviting Applications for New Awards for Fiscal Year (FY) 2001

Purpose of Program: The Child Care Access Means Parents In School (CCAMPIS) Program supports the participation of low-income parents in postsecondary education through the provision of campus-based childcare services.

Eligible Applicants: Institutions of higher education that have a total amount of all Federal Pell Grant funds awarded to students enrolled at the institution of higher education for the preceding fiscal year that equals or exceeds $350,000.

Deadline for Transmittal of Applications: April 24, 2001.

Deadline for Intergovernmental Review: June 25, 2001.

Applications Available: February 23, 2001.

Available Funds: $20,000,000.

Estimated Range of Awards: $10,000-$300,000. An institution will be eligible for a maximum grant award equal to one (1) percent of its Federal Pell Grant disbursement with no grant being less than $10,000.

Estimated Average Size of Awards: $100,000.

Estimated Number of Awards: 150-200.

Project Period: 48 months.

Note: The Department is not bound by any estimates in this notice.

Applicable Regulations: The Education Department General Administrative Regulations (EDGAR) in 34 CFR parts 74, 75, 77, 79, 82, 85, 86, 97, 98 and 99.

In preparing applications, applicants should pay particular attention to the requirements in section 427 of the General Education Provisions Act (GEPA), as detailed later in this notice. Applicants must address the requirements in section 427 in order to receive funding under this competition. Section 427 requires each applicant to describe the steps it proposes to take for addressing one or more barriers (i.e., gender, race, national origin, color, disability, or age) that can impede equitable access to, or participation in, the program. A restatement of compliance with civil rights requirements is not sufficient to meet the requirements in section 427 of GEPA. Because there are no program-specific regulations for the Child Care Access Means Parents In School Program, applicants are encouraged to read the authorizing statute in section 419N of the Higher Education Act of 1965, as amended (HEA).

Priority:

Competitive Priority: Under 34 CFR 75.105(c)(2)(i) and 20 U.S.C. 1070e(d) the Secretary gives preference to applications that meet the following competitive priority. The Secretary awards up to 10 points to an application that meets this competitive priority. These points are in addition to any points the application earns under the selection criteria:

Projects that leverage significant local or institutional resources, including in-kind contributions to support the activities, and use a sliding fee scale for childcare services provided by a facility assisted under this grant in order to support a high number of low-income parents pursuing postsecondary education at the institution.

Selection Criteria: In evaluating an application for a new grant under this competition, the Secretary uses selection criteria under 34 CFR 75.209 and 75.210 of EDGAR. The Secretary informs applicants in the application package of the selection criteria and factors, if any, to be used for this competition and of the maximum weight assigned to each criterion.

Page Limit: The application narrative (Part C of the application) is where you, the applicant, address the selection criteria that reviewers use to evaluate your application. We suggest you limit Part C to the equivalent of no more than 50 pages using the following standards:

• A “page” is 8.5″ x 11″ on one side only, with 1” margins at the top, bottom, and both sides.

• Double space (no more than three lines per vertical inch) all text in the application narrative, including titles, headings, footnotes, quotations, references, and captions, as well as all text in charts, tables, figures, and graphs.

• Use a font that is either 12-point or larger or no smaller than 10 pitch (characters per inch).

The page limit does not apply to the cover sheet, the budget section, including the narrative budget justification, the assurances and certifications, the three-page abstract, the resumes, or the letters of support. However, you must include all of the application narrative in Part C.

Application Procedures:

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications: The U.S. Department of Education is expanding its pilot project of electronic submission of applications to include certain formula grant programs, as well as additional discretionary grant competitions. The Child Care Access Means Parents In School (CCAMPIS) Program, CFDA No, 84.335, is one of the programs included in the pilot project. If you are an applicant under the CCAMPIS Program, you may submit your application to us in either electronic or paper format.

The pilot project involves the use of the Electronic Grant Application System (e=APPLICATION, formerly e-GAPS) portion of the Grant Administration and Payment System (GAPS). We request your participation in this pilot project. We shall continue to evaluate its success and solicit suggestions for improvement.

If you participate in this e-APPLICATION pilot, please note the following:

• Your participation is voluntary.

• You will not receive any additional point value or penalty because you submit a grant application in electronic or paper format.

• You can submit all documents electronically, including the Application for Federal Education Assistance (ED 424), Budget Information—Non-Construction Programs (ED 524), and all necessary assurances and certifications.

• Fax a signed copy of the Application for Federal Assistance (ED 424) after following these steps:

(1) Print ED 424 from the e-APPLICATION system.

(2) Make sure that the institution's authorizing representative signs this form.

(3) Before faxing this form, submit your electronic application via the e-APPLICATION system. You will receive an automatic acknowledgement, which will include a PR/Award number (an identifying number unique to your application).

(4) Place the PR/Award number in the upper right hand corner of the ED 424.

(5) Fax the ED 424 to the Application Control Center within three working days of submitting your electronic application. We will indicate a fax number in e-APPLICATION at the time of your submission.

We may request that you give us original signatures on all other forms at a later date.

You may access the electronic grant application for the CCAMPIS Program at: http://e-grants.ed.gov

We have included additional information about the e-APPLICATION pilot project (see Parity Guidelines between Paper and Electronic Applications) in the application package.

For Applications Contact: Education Publications Center (EDPUBS), P.O. Box 1398, Jessup, Maryland 20794-1398. Telephone (toll free) 1-877-433-7827. Fax: (301) 470-1244. If you use a telecommunications device for the deaf (TDD) you may call toll free 1-877-576-7734. You may also contact EDPUBS at its web site: http://www.ed.gov/pubs/edpubs.html. Or you may contact EDPUBS at its e-mail address: edpubs@net.ed.gov.

If you request an application from EDPUBS, be sure to identify this competition as follows: CFDA number 84.335.

For Application or Information Contact: Karen W. Johnson, U.S. Department of Education, 1990 K Street, NW, Suite 7018, Washington, DC 20006. Telephone: (202) 502-7525. Fax: CCAMPIS Program (202) 502-7864. Individuals who use a telecommunications device for the deaf (TDD) may call the Federal Information Relay Service (FIRS) at 1-800-877-8339

Individuals with disabilities may obtain this document in an alternative format (e.g., Braille, large print, audiotape, or computer diskette) on request to the contact person listed in the preceding paragraph. Individuals with disabilities may obtain a copy of the application package in an alternative format, also, by contacting that person. However, the Department is not able to reproduce in an alternative format the standard forms included in the application package.

Electronic Access to This Document: You may view this document, as well as all other Department of Education documents published in the Federal Register, in text or Adobe Portable Document Format (PDF) on the Internet at either of the following sites: http://ocfo.ed.gov/fedreg.htm and http://www.ed.gov/news.html. To use PDF, you must have the Adobe Acrobat Reader, which is available free at either of the previous sites. If you have questions about using the PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

Program Authority: 20 U.S.C. 1070e.

Dated: January 16, 2001.
Lee A. Fritschler,
Assistant Secretary, Office of Postsecondary Education.

[FR Doc. 01-1680 Filed 1-19-01; 8:45 am]

BILLING CODE 4000-01-P